CORPORATION FOR NATIONAL AND COMMUNITY SERVICE

45 CFR Part 2551

RIN 3045-AA44

National Service Criminal History Checks

Correction

In rule document E7-16681 beginning on page 48574 in the issue of Friday, August 24, 2007, make the following corrections:

§ 2551.28 [Corrected]

1. On page 48583, in the second column, in § 2251.28(a), in the fourth and fifth lines, “the effective date of this regulation” should read “November 23, 2007”.

2. On the same page, in the same column, in § 2251.28(b), in the fourth and fifth lines, “the effective date of this regulation” should read “November 23, 2007”.

[FR Doc. Z7-16681 Filed 9-4-07; 8:45 am]

BILLING CODE 1505-01-D

DEPARTMENT OF THE TREASURY

Internal Revenue Service

26 CFR Parts 1, 53, 54 and 301

[REG-142039-06; REG-139268-06]

RIN 1545-BG18; 1545-BG20

Excise Taxes on Prohibited Tax Shelter Transactions and Related Disclosure Requirements; Disclosure Requirements With Respect to Prohibited Tax Shelter Transactions; Requirement of Return and Time for Filing

Correction

In proposed rule document E7-12902 beginning on page 36927 in the issue of Friday, July 6, 2007, make the following corrections:

1. On page 36927, in the second column, in the first paragraph, “§§” is corrected to read “sections” wherever it appears.

2. On the same page, in the same paragraph, “§” is corrected to read “section” wherever it appears.

3. On the same page, in the third column, in the second paragraph, in the 14th line, “1,250” should read “1250”.

4. On the same page, in the same column, the small table following the second paragraph to read as follows:

Recordkeeping | 6 hr., 13 min.
Learning about the law or the form | 4 hr. 28 min.
Preparing, copying, assembling, and sending the form to the IRS | 4 hr. 46 min.

4. On the same page, in the same column, in the sixth line from the bottom of the page, “§” is corrected to read “section”.

5. On the same page, in the same column, in the fifth line from the bottom of the page, “§§” is corrected to read “sections”.

6. On page 36928, in the first column, in the 17th line, “§” should read “section”.

7. On the same page, in the same column, in the 20th line, “§” should read “section”.

8. On the same page, in the same column, under the heading “Covered Tax-Exempt Entities”, “§” is corrected to read “section” wherever it appears.

9. On the same page, in the same paragraph, in the third line “§§” is corrected to read “sections”.

10. On the same page, in the same column, in the last line of the column, “§” should read “section”.

11. On the same page, in the second and third columns, “§” should read “section” wherever it appears.

12. On the same page, in the same column, in the 18th line, “§§” should read “sections”.

13. On page 36929, in the first and second columns, “§” should read “section” wherever it appears.

§ 53.4965-3 [Corrected]

14. On page 36932, in the second column, in § 53.4965-3(a), in the third line, “means” should read “means”.

§ 53.4965-8 [Corrected]

15. On page 36937, in the first column, in § 53.4965-8(f), in Example 1, in paragraph (i), in the last line, “§ 601.601(d)(2)(ii)(b)” should read “§ 601.601(d)(2)(ii)(b)”.

[FR Doc. Z7-12902 Filed 9-4-07; 8:45 am]

BILLING CODE 1505-01-D